DEPARTMENT OF TRANSPORTATION

National Highway Traffic Safety Administration

[Docket No. NHTSA-2022-0095; Notice 1]

Toyota Motor North America, Receipt of Petition for Decision of Inconsequential Noncompliance

AGENCY: National Highway Traffic Safety Administration (NHTSA), Department of Transportation (DOT).

ACTION: Receipt of petition.

SUMMARY: Toyota Motor North America (Toyota) has determined that certain model year (MY) 2023 Subaru Solterra and Toyota bZ4X motor vehicles, do not fully comply with Federal Motor Vehicle Safety Standard (FMVSS) No. 110, Tire Selection and Rims and Motor Home/Recreation Vehicle Trailer Load Carrying Capacity Information for Motor Vehicles with a GVWR of 4,536 Kilograms (10,000 Pounds) or Less. Toyota filed a noncompliance report dated July 29, 2022, and subsequently petitioned NHTSA (the “Agency”) on August 12, 2022, for a decision that the subject noncompliance is inconsequential as it relates to motor vehicle safety. This document announces receipt of Toyota's petition.

DATES: Send comments on or before June 20, 2023.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

FOR FURTHER INFORMATION CONTACT: Ahmad Barnes, General Engineer, NHTSA, Office of Vehicle Safety Compliance, (202) 366-7236.

SUPPLEMENTARY INFORMATION:

I. Overview: Toyota determined that certain MY 2023 Subaru Solterra and Toyota bZ4X motor vehicles do not fully comply with paragraph S4.3(a) of FMVSS No. 110, Tire Selection and Rims and Motor Home/Recreation Vehicle Trailer Load Carrying Capacity Information for Motor Vehicles with A GVWR of 4,536 Kilograms (10,000 Pounds) or Less. (49 CFR 571.110).

Toyota filed a noncompliance report dated July 29, 2022, pursuant to 49 CFR part 573, Defect and Noncompliance Responsibility and Reports. Toyota petitioned NHTSA on August 12, 2022, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of Toyota's petition is published under 49 U.S.C. 30118 and 30120 and does not represent any agency decision or another exercise of judgment concerning the merits of the petition.

II. Vehicles Involved: Approximately 661 MY 2023 Subaru Solterra and Toyota bZ4X motor vehicles, manufactured between March 30, 2022, and June 3, 2022, were reported by the manufacturer.

III. Noncompliance: Toyota explains that the noncompliance is that the subject vehicles are equipped with a tire information placard that incorrectly identifies the vehicle weight capacity of the subject vehicles and, therefore, do not comply with FMVSS No. 110. Specifically, the tire information placard incorrectly states that the vehicle weight capacity is 925 pounds when it should state that the vehicle weight capacity is 1,045 pounds.

IV. Rule Requirements: Paragraph S4.3(a) of FMVSS No. 110 of FMVSS No. 110 includes the requirements relevant to this petition. Paragraph S4.3 of FMVSS No. 110 provides that each vehicle, except for a trailer or incomplete vehicle, is required to show the vehicle weight capacity on a placard permanently affixed to the driver's side B-pillar. In each vehicle without a driver's side B-pillar and with two doors on the driver's side of the vehicle opening in opposite directions, the placard shall be affixed on the forward edge of the rear side door. If the above locations do not permit the affixing of a placard that is legible, visible, and prominent, the placard shall be permanently affixed to the rear edge of the driver's side door. If this location does not permit the affixing of a placard that is legible, visible, and prominent, the placard shall be affixed to the inward facing surface of the vehicle next to the driver's seating position. This information shall be in the English language and conform in color and format, not including the border surrounding the entire placard.

V. Summary of Toyota's Petition: The following views and arguments presented in this section, “V. Summary of Toyota's Petition,” are the views and arguments provided by Toyota. They have not been evaluated by the Agency and do not reflect the views of the Agency. Toyota describes the subject noncompliance and contends that the noncompliance is inconsequential as it relates to motor vehicle safety.

Toyota explains that the tire information placard on the subject vehicles provides a vehicle weight capacity that is lower than the actual value. Therefore, Toyota says that vehicle owners referring to the incorrect vehicle capacity weight stated on the tire information placard are not at risk of overloading the subject vehicle beyond the vehicle capacity weight. The tire information placard states that the vehicle capacity weight for the subject vehicle is 925 pounds when it should state that the vehicle weight capacity is 1,045 pounds. Toyota says that if a vehicle owner loads a subject vehicle according to the weight stated on the tire information placard, the subject vehicle would still have an additional 120 pounds of weight capacity.

Toyota contends that NHTSA has previously stated that the “intent of FMVSS No. 110 is to ensure that vehicles are equipped with tires appropriate to handle maximum vehicle loads and prevent overloading” ¹ and FMVSS No. 110 states that the purpose of the requirements for tire selection are to “prevent tire overloading.” ²

¹ See, e.g., Volkswagen Group of America, Inc., Grant of Petition for Decision of Inconsequential Noncompliance, 81 FR 88728, 88729 (December 8, 2016)

² See 49 CFR 571.110, paragraph S1.

Because the tire information placard contains a vehicle weight capacity that is lower than the actual weight capacity, Toyota says there is no risk of overloading if the vehicle owner loads the subject vehicle according to the incorrect value. Toyota adds that all other information on the tire information placard is accurate, and Toyota has corrected the subject noncompliance in current production of the subject vehicles.

Furthermore, Toyota says that the Owner's Manual states the correct vehicle capacity weight, and the tire information placard contains the text “See Owner's Manual for additional information.”

Toyota says that NHTSA previously granted a petition submitted by Mercedes-Benz USA, LLC, (MBUSA) that involved a similar noncompliance.³ In that case, the affected vehicles were affixed with a tire information placard that contained the incorrect maximum combined weight of occupants and cargo and, therefore, did not comply with the requirements of paragraph S4.3(a) of FMVSS No. 110. The tire information placard in the MBUSA vehicles contained a higher than intended value for the maximum combined weight of occupants and cargo; however, the tires and load carrying capabilities of the affected MBUSA vehicles exceeded the incorrect value identified by the tire information placard. Toyota says that NHTSA found that the tire capacities of those vehicles were capable of safely handling the additional weight of the higher vehicle weight capacity that was provided without risk of overloading.

³ Mercedes-Benz USA, LLC, (82 FR 33547, July 20, 2017).

Toyota contends that NHTSA should similarly find that the subject noncompliance is inconsequential to motor vehicle safety because the tire information placard on the subject vehicles provides a vehicle weight capacity that is lower than intended. Due to this, Toyota believes that the subject noncompliance does not pose a risk of vehicle overloading because the vehicle and its tires can accommodate more than the incorrect vehicle capacity weight that is stated on the tire information placard.

Toyota concludes by stating its belief that the subject noncompliance is inconsequential as it relates to motor vehicle safety and its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Toyota no longer controlled at the time it determined that the noncompliance existed. However, any decision on this petition does not relieve vehicles distributors and dealers of the prohibitions on the sale, offer for sale, or introduction or delivery for introduction into interstate commerce of the noncompliant vehicles under their control after Toyota notified them that the subject noncompliance existed.

(Authority: 49 U.S.C. 30118, 30120: delegations of authority at 49 CFR 1.95 and 501.8)

Otto G. Matheke III,
Director, Office of Vehicle Safety Compliance.

[FR Doc. 2023-10703 Filed 5-18-23; 8:45 am]

BILLING CODE 4910-59-P